DEPARTMENT OF THE TREASURY

Agency Information Collection Activities; Submission for OMB Review; Comment Request; Multiple Departmental Offices Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests. The Department of the Treasury, as part of its continuing effort to reduce paperwork burdens, invites the general public and other Federal agencies to comment on an information collection that is due for extension approval by the Office of Management and Budget.

DATES: Comments should be received on or before March 31, 2025 to be assured of consideration.

ADDRESSES: Written comments and recommendations for the proposed information collection should be sent within 30 days of publication of this notice to www.reginfo.gov/public/do/PRAMain. Find this particular information collection by selecting “Currently under 30-day Review—Open for Public Comments” or by using the search function. Copies of the submissions may be obtained from Melody Braswell by emailing PRA@treasury.gov, calling (202) 622-1035, or viewing the entire information collection request at www.reginfo.gov.

SUPPLEMENTARY INFORMATION:

1. Title: Solicitation of Proposal Information for Award of Public Contracts.

OMB Control Number: 1505-0081.

Type of Review: Extension without change of a currently approved collection.

Description: Treasury Bureaus and the Office of the Procurement Executive collect information when inviting firms to submit proposals for public contracts for supplies and services. The information collection is necessary for compliance with the Federal Property and Administrative Services Act (41 U.S.C. 251 et seq.), the Federal Acquisition Regulation (FAR) (48 CFR Chapter 1) and applicable acquisition regulations.

Form: None.

Affected Public: Businesses or other for-profits.

Estimated Number of Respondents: 20,946.

Frequency of Response: On occasion.

Estimated Total Number of Annual Responses: 20,946.

Estimated Time per Response: Varies depending on proposal type and proposal requirements.

Estimated Total Annual Burden Hours: 217,838.

2. Title: Coronavirus Economic Relief for Transportation Services (CERTS).

OMB Control Number: 1505-0273.

Type of Review: Extension without change of a currently approved collection.

Description: On December 27, 2020, the President signed the Consolidated Appropriations Act, 2021. Division N, Title IV, Subtitle B, Section 421 of the Act provides $2 billion for the U.S. Department of the Treasury to provide grants to eligible providers of transportation services (“Recipients”) under the Coronavirus Economic Relief for Transportation Services (“CERTS”) Program. Recipients include motorcoach companies, school bus companies, passenger vessel companies, and pilotage companies. Under Section 421 of the Act, Recipients must demonstrate significant revenue losses as a result of COVID-19, and must use grant funds for payroll costs and for other eligible operating expenses. At this point, all funds have been distributed and reporting requirements have been completed. Recipients are required to retain records for three years after funds are expended or returned to Treasury.

Form: None.

Affected Public: Businesses or other for-profits.

Estimated Number of Respondents: 1,460.

Frequency of Response: On occasion.

Estimated Total Number of Annual Responses: 1,460.

Estimated Time per Response: 15 minutes.

Estimated Total Annual Burden Hours: 365.

(Authority: 44 U.S.C. 3501 et seq.)

Melody Braswell,
Treasury PRA Clearance Officer.

[FR Doc. 2025-03308 Filed 2-27-25; 8:45 am]

BILLING CODE 4810-AK-P